ELECTION ASSISTANCE COMMISSION

Sunshine Act Meetings

AGENCY: U.S. Election Assistance Commission.

ACTION: Sunshine Act notice; notice of public roundtable agenda.

SUMMARY: Roundtable Discussion: UOCAVA and Accessibility Issues During the COVID-19 Pandemic.

DATES: Wednesday, August 19, 2020, 1:30 p.m.-3:30 p.m. Eastern.

ADDRESSES: Virtual via Zoom.

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual roundtable discussion on the challenges facing military and overseas voters, and voters with disabilities as they prepare to vote in the coming election, and discuss how state and local election offices are preparing to serve these voters.

Agenda: The U.S. Election Assistance Commission (EAC) will hold a roundtable discussion on serving military and overseas voters and voters with disabilities during the COVID-19 pandemic. This roundtable will have two panels including speakers from federal agencies as well as state and local election officials. Speakers will offer remarks on what they experienced while serving these voters in the primaries and discuss how they are planning to address the needs of these voters for the general election. Speakers will also answer questions from the EAC Commissioners.

The full agenda will be posted in advance on the EAC website: https://www.eac.gov.

Status: This roundtable discussion will be open to the public.

Amanda Joiner,
Associate Counsel, U.S. Election Assistance Commission.

[FR Doc. 2020-17380 Filed 8-5-20; 11:15 am]

BILLING CODE P